NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 11, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Public Law 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-007

1. Applicant Logan Pallin, Institute of Marine Sciences and Ocean Sciences, 115 McAllister Way, Santa Cruz, CA 95060

Activity for Which Permit Is Requested

Take, Enter Antarctic Specially Protected Areas (ASPAs), and Import into USA. The permit applicant requests a permit to collect and import samples of cetaceans and pinnipeds, for the purpose of scientific research in the Antarctic Peninsula region. The collection of marine mammal parts, DNA, and hormones are required for population demographic analyses. The applicant requests opportunistic collection, import, and receipt of samples from up to 2,000 individual cetaceans and 2,000 individual pinnipeds (excluding walrus) annually. All samples collected would be imported into the United States. The permit applicant has received a Marine Mammal Protection Act permit for the proposed activities. To conduct these activities, the applicant would enter the following Antarctic Specially Protected Areas: ASPA 113, Litchfield Island; ASPA 139, Biscoe Point; ASPA 176, Rosenthal Islands; ASPA 117, Avian Island; ASPA 170, Charcot Island; ASPA 107, Dion Islands; and ASPA 115, Lagotellerie Island.

Location

Antarctic Peninsula region; ASPA 113, Litchfield Island; ASPA 139, Biscoe Point; ASPA 176, Rosenthal Islands; ASPA 117, Avian Island; ASPA 170, Charcot Island; ASPA 107, Dion Islands; and ASPA 115, Lagotellerie Island.

Dates of Permitted Activities

March 31, 2023-March 31, 2028.

Kimiko S. Bowens-Knox,
Program Analyst, Office of Polar Programs.

[FR Doc. 2023-19467 Filed 9-8-23; 8:45 am]

BILLING CODE 7555-01-P